DEPARTMENT OF ENERGY

10 CFR Part 430

[Docket No. EERE-2012-BT-STD-0045]

RIN 1904-AC87

Energy Conservation Program for Consumer Products: Energy Conservation Standards for Ceiling Fans and Ceiling Fan Light Kits

AGENCY: Office of Energy Efficiency and Renewable Energy, Department of Energy.

ACTION: Notice of public meeting and availability of the framework document; correction and extension of the public comment period.

SUMMARY: On March 15, 2013, the U.S. Department of Energy (DOE) published a notice of public meeting and availability of the Framework Document regarding energy conservation standards for residential ceiling fans and ceiling fan light kits in the Federal Register. This document announces an extension of the public comment period for submitting comments on the Framework Document or any other aspect of the rulemaking for ceiling fans and ceiling fan light kits. The comment period is extended to June 14, 2013. DOE is also correcting an error in the docket number set forth in two places in the prior notice.

DATES: DOE will accept comments, data, and information regarding this rulemaking received no later than June 14, 2013.

ADDRESSES: Any comments submitted must identify the Framework Document for ceiling fans and ceiling fan light kits and provide docket number EERE-2012-BT-STD-0045 and/or Regulation Identification Number (RIN) 1904-AC87. Interested parties are encouraged to submit comments electronically. However, comments may be submitted using any of the following methods:

• Federal eRulemaking Portal: http://www.regulations.gov. Follow the instructions for submitting comments.

• Email: CeilingFanLightKits2012STD0045@ee.doe.gov. Include the docket number EERE-2012-BT-STD-0045 and/or RIN 1904-AC87 in the subject line of the message. All comments should clearly identify the name, address, and, if appropriate, organization of the commenter. Submit electronic comments in Word Perfect, Microsoft Word, PDF, or ASCII file format, and avoid the use of special characters or any form of encryption.

• Postal Mail: Ms. Brenda Edwards, U.S. Department of Energy, Building Technologies Program, Mailstop EE-2J, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza SW., Suite 600, Washington, DC 20024. Telephone (202) 586-2945. If possible, please submit all items on CD, in which case it is not necessary to include printed copies.

Docket: The docket is available for review at www.regulations.gov, including Federal Register notices, Framework Documents, public meeting attendee lists and transcripts, comments, and other supporting documents/materials. All documents in the docket are listed in the www.regulations.gov index. However, not all documents listed in the index may be publicly available, such as information that is exempt from public disclosure.

The rulemaking Web page can be found at: http://www1.eere.energy.gov/buildings/appliance_standards/rulemaking.aspx/ruleid/65. This Web page contains links to the Framework Document and other supporting materials and information for this rulemaking on the www.regulations.gov Web site. The www.regulations.gov Web page contains instructions on how to access all documents in the docket, including public comments.

For information on how to submit a comment or review other public comments and the docket, contact Ms. Brenda Edwards at (202) 586-2945 or by email: Brenda.Edwards@ee.doe.gov.

FOR FURTHER INFORMATION CONTACT: Ms. Lucy deButts, U.S. Department of Energy, Office of Energy Efficiency and Renewable Energy, Building Technologies, EE-2J, 1000 Independence Avenue SW., Washington, DC 20585-0121. Telephone: (202) 287-1604. Email: ceiling_fan_light_kits@ee.doe.gov.

Mr. Eric Stas, U.S. Department of Energy, Office of the General Counsel, GC-71, 1000 Independence Avenue SW., Washington, DC 20585-0121. Telephone: (202) 586-9507. Email: Eric.Stas@hq.doe.gov.

SUPPLEMENTARY INFORMATION: On March 15, 2013, DOE published a notice of public meeting and availability of the Framework Document in the Federal Register (78 FR 16443) to make available and invite comments on the Framework Document regarding energy conservation standards for residential ceiling fans and ceiling fan light kits. That notice set a deadline for the submission of written comments by April 29, 2013, and comments were also accepted at a public meeting held at DOE Headquarters on March 22, 2013. The American Lighting Association (ALA) requested an extension of the comment period. ALA stated the additional time is necessary for interested parties to consider and respond to the Framework Document and public meeting presentation, in order to submit meaningful and useful comments.

After careful consideration of ALA's request, DOE has determined that an extension of the public comment period is appropriate and in the public interest based on the foregoing reasoning. Accordingly, DOE is hereby extending the comment period and will consider any comments received by midnight of June 14, 2013 (with any comments received by that time deemed to be timely submitted).

Correction

In the ADDRESSES section of the March 15, 2013 Federal Register notice announcing the availability of the Framework Document for residential ceiling fans and ceiling fan light kits, DOE mistakenly listed the docket number for this rulemaking as EERE-2011-BT-STD-0045 and EERE-2010-BT-STD-0045. However, the initial heading to the notice did recite the correct docket number, which is EERE-2012-BT-STD-0045. This notice hereby corrects the errant docket numbers to all read as EERE-2012-BT-STD-0045.

Issued in Washington, DC, on April 26, 2013.
Kathleen B. Hogan,
Deputy Assistant Secretary for Energy Efficiency, Energy Efficiency and Renewable Energy.

[FR Doc. 2013-10381 Filed 5-1-13; 8:45 am]

BILLING CODE 6450-01-P